DEPARTMENT OF AGRICULTURE

Foreign Agricultural Service

Commodity Credit Corporation

Notice of Request for Extension of Currently Approved Information Collection

AGENCY: Foreign Agricultural Service and Commodity Credit Corporation, USDA.

ACTION: Notice and request for comments.

SUMMARY: In accordance with the Paperwork Reduction Act of 1995, this notice announces the Commodity Credit Corporation's (CCC) intention to request an extension for a currently approved information collection in support of the CCC Facility Guarantee Program (FGP).

DATES: Comments on this notice must be received by October 3, 2022 to be assured consideration.

ADDRESSES: You may send comments, identified by OMB Control Number 0551-0032, by any of the following methods:

• Federal eRulemaking Portal: http://www.regulations.gov. This portal enables respondents to enter short comments or attach a file containing lengthier comments.

• Email: Juan.McCoy@usda.gov. Include OMB Control Number 0551-0032 in the subject line of the message.

• Mail, Courier, or Hand Delivery: Juan McCoy, U.S. Department of Agriculture, Foreign Agricultural Service, 1400 Independence Avenue SW, Room 5768, Washington, DC 20250.

Instructions: All submissions received must include the agency names and OMB Control Number for this notice. All comments received will be posted without change to http://www.regulations.gov, including any personal information provided.

FOR FURTHER INFORMATION CONTACT: Amy Slusher, 202 720-0775, Amy.Slusher@usda.gov.

SUPPLEMENTARY INFORMATION: Title: CCC Facility Guarantee Program (FGP).

OMB Number: 0551-0032.

Expiration Date of Approval: November 30, 2022.

Type of Request: Extension of a currently approved information collection.

Abstract: Under the FGP, CCC provides payment guarantees to facilitate the financing of manufactured goods and U.S. services to improve or establish agriculture-related facilities in emerging markets. By supporting such goods and services exports, the FGP is designed to enhance sales of U.S. agricultural commodities and products to emerging markets where the demand for such commodities and products may be limited due to inadequate storage, processing, handling, or distribution capabilities for such products.

The FGP is currently available in 84 countries. Under 7 CFR part 1493, U.S. sellers, foreign financial institutions (FFI), and U.S. financial institutions (USFI) are required to submit the following: (1) information about the seller, FFI, and USFI for program participation; (2) applications for payment guarantees; (3) environmental impact statement/assessment; (4) notice of assignment of payment guarantee; (5) evidence of performance; (6) notice of default and claims for loss; and (7) documents supporting dispute resolution and appeals. In addition, each seller and seller's assignee (U.S. financial institution) must maintain records on all information submitted to CCC and in connection with sales made under FGP. The information collected is used by CCC to manage, plan, evaluate, and account for government resources. The reports and records are required to ensure the proper and judicious use of public funds.

Estimate of Burden: The public reporting burden for these collections is estimated to average 1.282 hours per response.

Type of Respondents: U.S. exporters (sellers), U.S. financial institutions, and foreign financial institutions.

Estimated Number of Respondents: 18 per year.

Estimated Number of Responses per Respondent: 15.6 per year.

Estimated Total Annual Burden of Respondents: 360.5 hours.

Copies of this information collection can be obtained from Dacia Rogers, the Agency Information Collection Coordinator, at Dacia.Rogers@usda.gov.

Request for Comments: Send comments regarding (a) whether the proposed collection of information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques or other forms of information technology.

All comments received in response to this notice, including names and addresses when provided, will be a matter of public record. Comments will be available without change, including any personal information provided, for inspection online at http://www.regulations.gov and at the mail address listed above between 8:00 a.m. and 4:30 p.m., Monday through Friday, except holidays.

Comments will be summarized and included in the submission for Office of Management and Budget approval.

Persons with disabilities who require an alternative means for communication of information (Braille, large print, audiotape, etc.) should contact FAS-ReasonableAccommodation@usda.gov or Cynthia Stewart (RA Coordinator), cynthia.stewart@usda.gov.

Zach Ducheneaux,
Executive Vice President, Commodity Credit Corporation.
Daniel Whitley,
Administrator, Foreign Agricultural Service.

[FR Doc. 2022-16542 Filed 8-2-22; 8:45 am]

BILLING CODE 3410-10-P